FEDERAL COMMUNICATIONS COMMISSION

[OMB 3060-1155]

Information Collection Being Reviewed by the Federal Communications Commission

AGENCY: Federal Communications Commission.

ACTION: Notice and request for comments.

SUMMARY: As part of its continuing effort to reduce paperwork burdens, and as required by the Paperwork Reduction Act (PRA) of 1995 (44 U.S.C. 3501-3520), the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before February 17, 2015. If you anticipate that you will be submitting comments, but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION: OMB Control No.: 3060-1155.

Title: Sections 15.713, 15.714, 15.715 and 15.717, TV White Space Broadcast Bands.

Form No.: Not Applicable.

Type of Review: Revision of an existing collection.

Respondents: Business or other for-profit entities; not-for-profit institutions; Federal government; and state, local or tribal government.

Number of Respondents and Responses: 2,000 respondents and 2,000 responses.

Estimated Time per Response: 2.0 hours.

Frequency of Response: On occasion reporting requirement, recordkeeping requirement and third party disclosure requirement.

Obligation to Respond: Required to obtain or retain benefits. The statutory authority for this collection of information is contained in 47 U.S.C. 154(1), 302, 303(c), 303(f), and 307.

Total Annual Burden: 4,000 hours.

Total Annual Cost: $100,000.

Privacy Act Impact Assessment: No impact(s).

Nature and Extent of Confidentiality: The Commission is not requesting respondents to submit confidential information to the Commission. Respondents may request confidential treatment of such information under 47 CFR 0.459 of the Commission's rules.

Needs and Uses: On June 2, 2014, the Commission released a Second Report and Order, FCC 14-62, WT Docket Nos. 08-166 and 08-167 and ET Docket No. 10-24, “Revisions to Rules Authorizing the Operation of Low Power Auxiliary Stations in the 698-806 MHz Band.” This order expanded eligibility for low power auxiliary station licenses under Part 74 by adding two new categories of eligible entities: “large venue owner or operator” and “professional sound company.” The Commission is now requesting OMB approval for a revision of this information collection to increase by 200 the number of licensed low power auxiliary station operators who will be able to register in the database under 47 CFR 15.713(h)(8) to reflect the estimated of number of entities that will become eligible for a license under the Second Report and Order and which will register in the database. Because these newly-eligible licensees would likely have been able to register on an unlicensed basis under 47 CFR 15.713(h)(9) (and now will register as licensees instead), the Commission is also decreasing by 200 the number of unlicensed low power auxiliary station operators who will register in the database on an unlicensed basis under 47 CFR 15.713 (h)(9).

The Commission seeks Office of Management and Budget (OMB) approval for a revised information collection for an increase in the number of LPAS licensees that will register under 47 CFR 15.713(h)(8) and a decrease in the number of unlicensed wireless microphone users that will register on an unlicensed basis under 47 CFR 15.713(h)(9).

Federal Communications Commission.
Marlene H. Dortch,
Secretary, Office of the Secretary, Office of the Managing Director.

[FR Doc. 2014-29755 Filed 12-18-14; 8:45 am]

BILLING CODE 6712-01-P